DEPARTMENT OF ENERGY

Federal Energy Regulatory Commission

[Project No. 77-285]

Mendocino County Inland Water Agency and Power Commission; Sonoma County Water Agency; California Trout, Inc.; County of Humboldt, California

Notice of Continuation of Relicensing Proceeding

On June 28, 2019, Mendocino County Inland Water Agency and Power Commission; Sonoma County Water Agency; California Trout, Inc.; and the County of Humboldt, California (NOI Parties) filed a Notice of Intent (NOI) to File an Application for a New License for the Potter Valley Project.

The 9.4-megawatt project is located on the Eel River and the East Branch Russian River in Mendocino and Lake Counties, California, about 15 miles northeast of the city of Ukiah. Project features include Lake Pillsbury, a 2,300-acre storage reservoir impounded by Scott Dam; 106-acre Van Arsdale Reservoir, impounded by the Cape Horn Diversion Dam; and a tunnel and penstock across a natural divide to the project's powerhouse located in the headwaters of the Russian River Basin.

The Potter Valley Project is currently licensed to the Pacific Gas and Electric Company (PG&E) and the license expires on April 14, 2022. On April 6, 2017, PG&E filed a NOI to relicense the project and a pre-application document (PAD) and initiated the pre-filing steps of the Integrated Licensing Process (ILP). On January 25, 2019, PG&E filed a notice of withdrawal of its NOI and PAD, indicating it was discontinuing its efforts to relicense the project. The withdrawal became effective on February 11, 2019. On March 1, 2019, the Commission issued a Notice Soliciting Applications, establishing a deadline of 120 days from the date of the notice (i.e., July 1, 2019) for interested applicants, other than PG&E, to file NOIs, PADs, and requests to complete the pre-filing stages of the licensing process.

The NOI Parties propose to continue the ILP initiated by PG&E. According to the proposed pre-filing process plan and schedule, the NOI Parties propose to complete a feasibility study in April 2020, consult on the need for additional studies, and file ¹ a final license application by April 14, 2022.

¹ The NOI Parties are proxies for a new Regional Entity that ultimately would be the license applicant for the project. The Regional Entity has not yet been formed under California law, but once formed the Regional Entity would supplant the NOI Parties in this ILP proceeding.

With this notice, we are initiating informal consultation with: (a) The U.S. Fish and Wildlife Service and/or NOAA Fisheries under section 7 of the Endangered Species Act and the joint agency regulations thereunder at 50 CFR part 402; and (b) the State Historic Preservation Officer, as required by section 106 of the National Historic Preservation Act, and the implementing regulations of the Advisory Council on Historic Preservation at 36 CFR part 800.

With this notice, we are designating the NOI Parties as the Commission's non-federal representative for carrying out informal consultation, pursuant to section 7 of the Endangered Species Act and section 106 of the National Historic Preservation Act.

Questions concerning this notice should be directed to Alan Mitchnick at (202) 502-6074 or alan.mitchnick@ferc.gov.

Dated: August 1, 2019.
Kimberly D. Bose,
Secretary.

[FR Doc. 2019-16852 Filed 8-6-19; 8:45 am]

BILLING CODE 6717-01-P